DEPARTMENT OF ENERGY

Federal Energy Regulatory Commission

[Docket No. EL02-48-000]

California Power Exchange Corporation; Notice of Petition for Declaratory Order

January 15, 2002.

Take notice that on January 15, 2002, the California Power Exchange Corporation (PX) filed a Petition for Declaratory Order. The Petition requests that the Commission issue a declaratory order stating that it is in the public interest for the successor of the PX to remain an independent entity not controlled by any segment of electric industry participants.

The PX requests that the Commission issue the declaratory order no later than January 31, 2002 for the purpose of providing guidance to the Bankruptcy Court, which is holding a hearing on February 1, 2002 to consider a Disclosure Statement and Reorganization Plan that would permit “seller-side” participants of the PX to acquire substantial control of the successor to the PX. Accordingly, the PX requests a shortened response time, sufficient to permit the Commission to issue its declaratory order by January 31, 2002.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before the comment date. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Comment Date: January 23, 2002.

Linwood A. Watson, Jr.,
Acting Secretary.

[FR Doc. 02-1464 Filed 1-18-02; 8:45 am]

BILLING CODE 6717-01-P